DEPARTMENT OF TRANSPORTATION

Federal Aviation Administration

Seventy-second Meeting: RTCA Special Committee 147: Minimum Operational Performance Standards for Traffic Alert and Collision Avoidance Systems Airborne Equipment

AGENCY: Federal Aviation Administration (FAA), DOT.

ACTION: Notice of RTCA Special Committee 147 meeting: Minimum Operational Performance Standards for Traffic Alert and Collision Avoidance Systems Airborne Equipment.

SUMMARY: The FAA is issuing this notice to advise the public of a meeting of RTCA Special Committee 147: Minimum Operational Performance Standards for Traffic Alert and Collision Avoidance Systems Airborne Equipment Agenda for the 72nd meeting.

DATES: The meeting will be held March 24, 2011, from 9 a.m. to 4 p.m.

ADDRESSES: The meeting will be held at RTCA, Inc., 1828 L Street, NW., Suite 805, Washington, DC 20036.

FOR FURTHER INFORMATION CONTACT: RTCA Secretariat, 1828 L Street, NW., Suite 805, Washington, DC 20036, telephone (202) 833-9339, fax (202) 833-9434, Web site http://www.rtca.org.

SUPPLEMENTARY INFORMATION: Pursuant to section 10(a)(2) of the Federal Advisory Committee Act (Pub. L. 92-463, 5 U.S.C., and Appendix 2), notice is hereby given for a Special Committee 147, Minimum Operational Performance Standards for Traffic Alert and Collision Avoidance Systems Airborne Equipment Agenda for the 72nd meeting:

Agenda

March 24, 2011

• Open Plenary Session.

• SC-147 Co-Chairmen's Opening Remarks.

• Introductions.

• Approval of Agenda and Summary from 71st meeting of SC-147.

• EUROCAE WG-75: Status of Current Events.

• TCAS Program Office Activities.

• Monitoring Efforts/TRAMS/TOPA.

• AVS and other FAA Activities.

• TSOs, etc.

• ASIAS/CAST/CAS Steering Committee.

• JPDO Safety Working Group Activities.

• Working Group Status Reports.

• Requirement Working Group.

• Surveillance Working Group.

• Other Business.

• Action Items.

• Date, Time, and Place of Next meeting.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on February 25, 2011.
Robert L. Bostiga,
RTCA Advisory Committee.

[FR Doc. 2011-4815 Filed 3-2-11; 8:45 am]

BILLING CODE 4910-13-P